INTERNATIONAL TRADE COMMISSION

[Investigation No. 731-TA-663 (Second Review)]

Paper Clips From China

Determination

On the basis of the record ¹ developed in the subject five-year review, the United States International Trade Commission (Commission) determines, pursuant to section 751(c) of the Tariff Act of 1930 (19 U.S.C. 1675(c)) (the Act), that revocation of the antidumping duty order on paper clips from China would be likely to lead to continuation or recurrence of material injury to an industry in the United States within a reasonably foreseeable time.

Background

The Commission instituted this review on July 1, 2005 (70 FR 38202) and determined on October 4, 2005 that it would conduct an expedited review (70 FR 61157, October 20, 2005).

The Commission transmitted its determination in this review to the Secretary of Commerce on January 18, 2006. The views of the Commission are contained in USITC Publication 3834 (January 2006), entitled Paper Clips from China: Investigation No. 731-TA-663 (Second Review).

By order of the Commission.
Issued: January 17, 2006.
Marilyn R. Abbott,
Secretary to the Commission.

¹ The record is defined in sec. 207.2(f) of the Commission's Rules of Practice and Procedure (19 CFR § 207.2(f)).

[FR Doc. E6-722 Filed 1-20-06; 8:45 am]

BILLING CODE 7020-02-P